DEPARTMENT OF DEFENSE

Department of the Navy

Extension of Public Comment Period for the Draft Fallon Range Training Complex Modernization Environmental Impact Statement, Naval Air Station Fallon, Nevada

AGENCY: Department of the Navy, DoD.

ACTION: Notice.

SUMMARY: A notice of availability was published in the Federal Register by the U.S. Environmental Protection Agency on November 16, 2018 (83 FR 57726) for the Department of the Navy's (Navy) Draft Fallon Range Complex Modernization Environmental Impact Statement (EIS) at Naval Air Station Fallon, NV. The public review period ends January 15, 2019. This notice announces a thirty-day extension of the public comment period until February 14, 2019.

SUPPLEMENTARY INFORMATION: This notice announces a thirty-day extension of the public comment period until February 14, 2019. Comments may be submitted in writing to Naval Facilities Engineering Command Southwest, Code EV21.SG, 1220 Pacific Highway; Building 1, 5th floor, San Diego, CA 92132-5190, Attn: Ms. Sara Goodwin, EIS Project Manager. In addition, comments may be submitted online at http://frtcmodernization.com/ during the comment period. All written comments must be postmarked by February 14, 2019, to ensure they become part of the official record. All comments will be addressed in the Final EIS.

The Draft EIS is available electronically for public viewing at http://frtcmodernization.com/ and hard copies are available for public review at the following libraries: Austin Branch Library, 88 Main Street, Austin, NV 89310-0121, Carson City Library, 900 North Roop Street, Carson City, NV 89701-3101, Churchill County Library, 553 S. Maine Street, Fallon, NV 89406-3306, Crescent Valley Branch Library, Crescent Valley Town Center, 5045 Tenabo Avenue, Suite 103, Crescent Valley, NV 89821-8051, Downtown Reno Library, 301 S. Center Street, Reno, NV 89501-2102, Eureka Branch Library, 80 South Monroe Street, Eureka, NV 89316-0293, Fernley Branch Library, 575 Silver Lace Blvd., Fernley, NV 89408-1591, Gabbs Community Library, 602 3rd Street, Gabbs, NV 89409-0206, Mineral County Library,110 First Street, Hawthorne, NV 89415-1390, Pershing County Library, 1125 Central Avenue, Lovelock, NV 89419-0781, and Yerington Branch Library, 20 Nevin Way, Yerington, NV 89447-2399.

Dated: December 19, 2018.
M.S. Werner,
Commander, Judge Advocate General's Corps, U.S. Navy, Federal Register Liaison Officer.

[FR Doc. 2018-28012 Filed 12-26-18; 8:45 am]

BILLING CODE 3810-FF-P